DEPARTMENT OF ENERGY

Federal Energy Regulatory Commission

Combined Notice of Filings #1

August 10, 2010.

Take notice that the Commission received the following electric rate filings:

Docket Numbers: ER07-1106-009; ER08-1255-004; ER10-566-002.

Applicants: ArcLight Energy Marketing, LLC, Oak Creek Wind Power, LLC, Coso Geothermal Power Holdings, LLC.

Description: Substitute List of Energy Affiliates on behalf of ArcLight Energy Marketing, LLC, Coso Geothermal Power Holdings, LLC, and Oak Creek Wind Power, LLC.

Filed Date: 07/01/2010.

Accession Number: 20100701-5189.

Comment Date: 5 p.m. Eastern Time on Friday, August 27, 2010.

Docket Numbers: ER10-1466-001.

Applicants: Community Power & Utility.

Description: Community Power & Utility submits amended petition for acceptance of Initial Tariff Waivers and Blanket Authority, etc.

Filed Date: 08/09/2010.

Accession Number: 20100809-0205.

Comment Date: 5 p.m. Eastern Time on Monday, August 30, 2010.

Docket Numbers: ER10-1705-001.

Applicants: Starion Energy NY, Inc.

Description: Starion Energy, Inc. submits Substitute Original Sheet 3 et al.

Filed Date: 08/02/2010.

Accession Number: 20100802-0221.

Comment Date: 5 p.m. Eastern Time on Monday, August 23, 2010.

Docket Numbers: ER10-1866-001.

Applicants: New York Independent System Operator, Inc.

Description: New York Independent System Operator submits tariff filing per 35.17(b): NYISO Errata Filing—BPCG—Bluvas 08/10/10 to be effective 9/30/2010.

Filed Date: 08/10/2010.

Accession Number: 20100810-5034.

Comment Date: 5 p.m. Eastern Time on Tuesday, August 17, 2010.

Docket Numbers: ER10-1977-002.

Applicants: New York Independent System Operator, Inc.

Description: New York Independent System Operator submits tariff filing per 35.17(b): NYISO Errata Filing IBRT—Bluvas 08/10/10 to be effective 9/30/2010.

Filed Date: 08/10/2010.

Accession Number: 20100810-5042.

Comment Date: 5 p.m. Eastern Time on Friday, August 20, 2010.

Docket Numbers: ER10-2167-000.

Applicants: Westar Energy, Inc.

Description: Westar Energy, Inc. submits Notice of Cancellation of First Revised FERC Rate Schedule 290, the Electric Power Supply Agreement.

Filed Date: 08/09/2010.

Accession Number: 20100809-0204.

Comment Date: 5 p.m. Eastern Time on Monday, August 30, 2010.

Docket Numbers: ER10-2168-000.

Applicants: Pacific Gas and Electric Company.

Description: Pacific Gas and Electric Company submits tariff filing per 35.13(a)(2)(iii): Large Generator Interconnection Agreement for PG&E's Collinsville Wind Project, to be effective 10/9/2010.

Filed Date: 08/10/2010.

Accession Number: 20100810-5002.

Comment Date: 5 p.m. Eastern Time on Tuesday, August 31, 2010.

Docket Numbers: ER10-2169-000.

Applicants: Southern California Edison Company.

Description: Southern California Edison Company submits tariff filing per 35.13(a)(2)(iii): LGIA First Solar SA 86 N 080910, to be effective 8/10/2010.

Filed Date: 08/10/2010.

Accession Number: 20100810-5003.

Comment Date: 5 p.m. Eastern Time on Tuesday, August 31, 2010.

Docket Numbers: ER10-2170-000.

Applicants: New England Power Company.

Description: New England Power Company submits tariff filing per 35.12: New England Power Company FERC Electric Tariff No. 10 (Market-Based Rates) to be effective 8/10/2010

Filed Date: 08/10/2010.

Accession Number: 20100810-5024.

Comment Date: 5 p.m. Eastern Time on Tuesday, August 31, 2010.

Docket Numbers: ER10-2171-000.

Applicants: Niagara Mohawk Power Corporation.

Description: Niagara Mohawk Power Corporation submits tariff filing per 35.12: FERC Electric Tariff No. 4 (Market-Based Rates), to be effective 8/10/2010.

Filed Date: 08/10/2010.

Accession Number: 20100810-5025.

Comment Date: 5 p.m. Eastern Time on Tuesday, August 31, 2010.

Docket Numbers: ER10-2172-000.

Applicants: Baltimore Gas and Electric Company.

Description: Baltimore Gas and Electric Company submits tariff filing per 35.12: Baltimore Gas and Electric Baseline MBR Tariff to be effective 8/10/2010.

Filed Date: 08/10/2010.

Accession Number: 20100810-5027.

Comment Date: 5 p.m. Eastern Time on Tuesday, August 31, 2010.

Docket Numbers: ER10-2173-000.

Applicants: Granite State Electric Company.

Description: Granite State Electric Company submits tariff filing per 35.12: Granite State Electric Company FERC Electric Tariff No. 1 (Market-Based Rates) to be effective 8/10/2010.

Filed Date: 08/10/2010.

Accession Number: 20100810-5028.

Comment Date: 5 p.m. Eastern Time on Tuesday, August 31, 2010.

Docket Numbers: ER10-2174-000.

Applicants: Constellation Power Source Generation, I.

Description: Constellation Power Source Generation, Inc. submits tariff filing per 35.12: CPSG Market-Based Rate Tariff to be effective 8/10/2010.

Filed Date: 08/10/2010.

Accession Number: 20100810-5029.

Comment Date: 5 p.m. Eastern Time on Tuesday, August 31, 2010.

Docket Numbers: ER10-2175-000.

Applicants: Massachusetts Electric Company.

Description: Massachusetts Electric Company submits tariff filing per 35.12: Massachusetts Electric Company FERC Electric Tariff No. 2 (Market-Based Rates) to be effective 8/10/2010.

Filed Date: 08/10/2010.

Accession Number: 20100810-5030.

Comment Date: 5 p.m. Eastern Time on Tuesday, August 31, 2010.

Docket Numbers: ER10-2176-000.

Applicants: Constellation Energy Commodities Group, Inc.

Description: Constellation Energy Commodities Group, Inc. submits tariff filing per 35.12: Constellation Energy Commodities Group Baseline MBR Tariff to be effective 8/10/2010.

Filed Date: 08/10/2010.

Accession Number: 20100810-5031.

Comment Date: 5 p.m. Eastern Time on Tuesday, August 31, 2010.

Docket Numbers: ER10-2177-000.

Applicants: The Narragansett Electric Company.

Description: The Narragansett Electric Company submits tariff filing per 35.12: The Narragansett Electric Company FERC Electric Tariff No. 2 (Market-Based Rate) to be effective 8/10/2010.

Filed Date: 08/10/2010.

Accession Number: 20100810-5032.

Comment Date: 5 p.m. Eastern Time on Tuesday, August 31, 2010.

Docket Numbers: ER10-2178-000.

Applicants: Constellation NewEnergy, Inc.

Description: Constellation NewEnergy, Inc. submits tariff filing per 35.12: Constellation NewEnergy Baseline MBR Tariff to be effective 8/10/2010.

Filed Date: 08/10/2010.

Accession Number: 20100810-5033.

Comment Date: 5 p.m. Eastern Time on Tuesday, August 31, 2010.

Docket Numbers: ER10-2179-000.

Applicants: Calvert Cliffs Nuclear Power Plant, LLC.

Description: Calvert Cliffs Nuclear Power Plant, LLC submits tariff filing per 35.12, Market-Based Rate Tariff, to be effective 8/10/2010.

Filed Date: 08/10/2010.

Accession Number: 20100810-5035.

Comment Date: 5 p.m. Eastern Time on Tuesday, August 31, 2010.

Docket Numbers: ER10-2180-000.

Applicants: Handsome Lake Energy, LLC.

Description: Handsome Lake Energy, LLC submits its baseline tariff filing, FERC Electric Tariff pursuant to Order No. 714, to be effective 8/10/2010.

Filed Date: 08/10/2010.

Accession Number: 20100810-5036.

Comment Date: 5 p.m. Eastern Time on Tuesday, August 31, 2010.

Docket Numbers: ER10-2181-000.

Applicants: Nine Mile Point Nuclear Station, LLC.

Description: Nine Mile Point Nuclear Station, LLC submits tariff filing per 35.12: Nine Mile Point Nuclear Station Baseline MBR Tariff to be effective 8/10/2010.

Filed Date: 08/10/2010.

Accession Number: 20100810-5037.

Comment Date: 5 p.m. Eastern Time on Tuesday, August 31, 2010.

Docket Numbers: ER10-2182-000.

Applicants: R.E. Ginna Nuclear Power Plant, LLC.

Description: R.E. Ginna Nuclear Power Plant, LLC submits tariff filing per 35.12: R.E. Ginna Nuclear Power Plant Baseline MBR Tariff to be effective 8/10/2010.

Filed Date: 08/10/2010.

Accession Number: 20100810-5038.

Comment Date: 5 p.m. Eastern Time on Tuesday, August 31, 2010.

Docket Numbers: ER10-2183-000.

Applicants: CER Generation II, LLC.

Description: CER Generation II, LLC submits tariff filing per 35.12: CER Generation II Baseline MBR Filing to be effective 8/10/2010.

Filed Date: 08/10/2010.

Accession Number: 20100810-5039.

Comment Date: 5 p.m. Eastern Time on Tuesday, August 31, 2010.

Docket Numbers: ER10-2184-000.

Applicants: CER Generation, LLC.

Description: CER Generation, LLC submits tariff filing per 35.12: CER Generation Baseline MBR Tariff to be effective 8/10/2010.

Filed Date: 08/10/2010.

Accession Number: 20100810-5040.

Comment Date: 5 p.m. Eastern Time on Tuesday, August 31, 2010.

Docket Numbers: ER10-2185-000.

Applicants: Southern California Edison Company.

Description: Southern California Edison Company submits tariff filing per 35.13(a)(2)(iii): RLA RRI Mandalay R 081010 to be effective 10/6/2010.

Filed Date: 08/10/2010.

Accession Number: 20100810-5041.

Comment Date: 5 p.m. Eastern Time on Tuesday, August 31, 2010.

Docket Numbers: ER10-2186-000.

Applicants: Consolidated Edison Company of New York, Inc.

Description: Consolidated Edison Company of New York, Inc. submits tariff filing per 35.13(a)(2)(iii): Correction to Rate Schedule No. 96 to be effective 8/10/2010.

Filed Date: 08/10/2010.

Accession Number: 20100810-5054.

Comment Date: 5 p.m. Eastern Time on Tuesday, August 31, 2010.

Docket Numbers: ER10-2187-000.

Applicants: Spokane Energy, LLC.

Description: Spokane Energy, LLC submits tariff filing per 35.12: Spokane Energy eTariff Baseline to be effective 8/10/2010.

Filed Date: 08/10/2010.

Accession Number: 20100810-5068.

Comment Date: 5 p.m. Eastern Time on Tuesday, August 31, 2010.

Docket Numbers: ER10-2188-000.

Applicants: Avista Turbine Power, Inc.

Description: Avista Turbine Power, Inc. submits its baseline tariff filing per Order No. 714, to be effective 8/10/2010.

Filed Date: 08/10/2010.

Accession Number: 20100810-5073.

Comment Date: 5 p.m. Eastern Time on Tuesday, August 31, 2010.

Take notice that the Commission received the following qualifying facility filings:

Docket Numbers: QF10-614-000.

Applicants: Sysco Raleigh, LLC.

Description: Self-Certification of EG by PowerSecure Inc. for Sysco Raleigh LLC.

Filed Date: 08/06/2010.

Accession Number: 20100806-5018.

Comment Date: Not Applicable.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-20505 Filed 8-18-10; 8:45 am]

BILLING CODE 6717-01-P